DEPARTMENT OF ENERGY

[EERE-2013-BT-NOC-0005]

Appliance Standards and Rulemaking Federal Advisory Committee: Notice of Public Webinar

AGENCY: Office of Energy Efficiency and Renewable Energy, Department of Energy.

ACTION: Notice of meeting.

SUMMARY: The Department of Energy (“DOE”) announces a meeting via webinar of the Appliance Standards and Rulemaking Federal Advisory Committee (ASRAC). The Federal Advisory Committee Act requires that agencies publish notice of an advisory committee meeting in the Federal Register.

DATES: DOE will hold a webinar on Tuesday, September 22, 2020 from 1 p.m. to 5 p.m.

ADDRESSES: Webinar registration information, participant instructions, and information about the capabilities available to webinar participants will be published on DOE's website: https://www.energy.gov/eere/buildings/appliance-standards-and-rulemaking-federal-advisory-committee. See the Public Participation section of this notice for additional information on this attending this webinar.

FOR FURTHER INFORMATION CONTACT: John Cymbalsky, ASRAC Designated Federal Officer, U.S. Department of Energy, Building Technologies Program, EE-5B, 1000 Independence Avenue SW, Washington, DC 20585-0121. Telephone: (202) 287-1692. Email: asrac@ee.doe.gov.

SUPPLEMENTARY INFORMATION: The primary focus of this meeting will be the discussion and prioritization of topic areas on which ASRAC can assist the Appliance and Equipment Standards Program. DOE plans to hold this webinar to gather advice and recommendations on the development of standards and test procedures for consumer products and commercial and industrial equipment. (The final agenda will be available for public viewing at https://www.regulations.gov/docket?D=EERE-2013-BT-NOC-0005.)

Public Participation

Attendance at Public Meeting

The time and date of the webinar are listed in the DATES section at the beginning of this document. Webinar registration information, participant instructions, and information about the capabilities available to webinar participants will be published on DOE's website: If you plan to attend the public meeting, please notify the ASRAC staff at asrac@ee.doe.gov.

Please note that foreign nationals participating in the public meeting are subject to advance security screening procedures which require advance notice prior to attendance at the public meeting. If a foreign national wishes to participate in the public meeting, please inform DOE as soon as possible by contacting Ms. Regina Washington at (202) 586-1214 or by email: Regina.Washington@ee.doe.gov so that the necessary procedures can be completed.

Participants are responsible for ensuring their systems are compatible with the webinar software.

Signing Authority

This document of the Department of Energy was signed on August 10, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 11, 2020.
Treena V. Garrett,
Federal Register Liaison Officer, U.S. Department of Energy.

[FR Doc. 2020-17802 Filed 8-13-20; 8:45 am]

BILLING CODE 6450-01-P